DEPARTMENT OF COMMERCE

National Oceanic and Atmospheric Administration

[RTID 0648-XD771]

Endangered and Threatened Species; Salmon Hatcheries

AGENCY: National Marine Fisheries Service (NMFS), National Oceanic and Atmospheric Administration (NOAA), Commerce.

ACTION: Notice of withdrawal.

SUMMARY: We, NMFS, are issuing this notice to advise Federal, state, and local government agencies and the public that we are withdrawing a notice of intent (NOI) to prepare an environmental impact statement (EIS) for the proposed operation of eight salmon hatchery programs in the Puyallup-White River Basin and Minter Creek Basin in Washington State.

FOR FURTHER INFORMATION CONTACT: Molly Gorman, Seattle, WA (email: molly.gorman@noaa.gov).

SUPPLEMENTARY INFORMATION: NMFS published a NOI in the Federal Register on September 12, 2016 (81 FR 62732) to prepare an EIS in accordance with the National Environmental Policy Act (NEPA) to analyze the impacts on the human environment resulting from the operation of 8 salmon hatchery programs in the Puyallup-White River Basin and Minter Creek Basin in Washington State. NMFS hereby advises the public of the rescission of this NOI. This change occurred because the proposed hatchery and genetic management plans jointly submitted by the Washington Department of Fish and Wildlife, the Puyallup Tribe of Indians, and the Muckleshoot Indian Tribe as co-managers were withdrawn and re-submitted with substantive changes since the NOI was published.

Any future hatchery and genetic management plans submitted by the above parties to NMFS will comply with the environmental review requirements of NEPA.

Authority

We provide this notice in accordance with the requirements of NEPA as amended (42 U.S.C. 4371 et seq.) and its implementing regulations (40 CFR 1506.6), and other appropriate Federal laws and regulations, and policies and procedures of NMFS for compliance with those regulations.

Dated: February 29, 2024.
Angela Somma,
Chief, Endangered Species Division, Office of Protected Resources, National Marine Fisheries Service.

[FR Doc. 2024-04608 Filed 3-4-24; 8:45 am]

BILLING CODE 3510-22-P